NATIONAL SCIENCE FOUNDATION

Advisory Committee for Biological Sciences; Committee of Visitors; Notice of Meeting

In accordance with the Federal Advisory Committee Act (Pub. L. 92-463, as amended), the National Science Foundation announces the following meeting:

Name: Advisory Committee for Biological Sciences; Committee of Visitors (1110).

Date/Time: March 26, 27, and 28, 2001, 8:30 a.m. to 5 p.m. each day.

Place: National Science Foundation, 4201 Wilson Blvd., Arlington, VA.

Contact Person: Dr. Maryanna Henkart, Division Director for Molecular and Cellular Biosciences, National Science Foundation, 4201 Wilson Boulevard, Arlington, Virginia, (703) 292-8440.

Purpose of Meeting: To carry out Committee of Visitors (COV) review, including program evaluation, GPRA assessments, and access to privileged materials.

Type of Meeting: Part open (see agenda below):

Agenda

Closed: March 26 (10 a.m.-5 p.m.); March 27 (8:30 a.m.-1 p.m., and 2 p.m.-5 p.m.); and March 28 (8:30 a.m.-1 p.m. and 2 p.m.-5 p.m.)—To review the merit review processes covering funding decisions made during the immediately preceding three fiscal years of programs in the Division of Molecular and Cellular Biosciences.

Open: March 26 (8:30 a.m.-10 a.m.); March 27 (1 p.m.-2 p.m.); and March 28, 2001 (2 p.m.-2:30 p.m.)—To assess the results of NSF program investments in the Molecular and Cellular Biosciences Division. This shall involve a discussion and review of results focused on NSF and grantee outputs and related outcomes achieved or realized during the preceding three fiscal years. These results may be based on NSF grants or other investments made in earlier years.

Reason for Closing: The proposals being reviewed include information of a proprietary or confidential nature, including technical information, financial data, such as salaries, and personal information concerning individuals associated with the proposals. These matters that are exempt under 5 U.S.C. 552b(c)(4) and (6) of the Government in the Sunshine Act.

*Reason for Late Notice: Conflicting schedules of members and the necessity to proceed with the review of proposals.

Dated: March 14, 2001.
Susanne Bolton,
Committee Management Officer.

[FR Doc. 01-6738 Filed 3-16-01; 8:45 am]

BILLING CODE 7555-01-M